OFFICE OF PERSONNEL MANAGEMENT

Excepted Service

AGENCY: U.S. Office of Personnel Management (OPM).

ACTION: Notice.

SUMMARY: This notice identifies Schedule A, B, and C appointing authorities applicable to a single agency that were established or revoked from March 1, 2018 to March 31, 2018.

FOR FURTHER INFORMATION CONTACT: Senior Executive Resources Services, Senior Executive Services and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the U.S. Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A Authorities to report during March 2018.

Schedule B

No schedule B Authorities to report during March 2018.

Schedule C

The following Schedule C appointing authorities were approved during March 2018.

Agency name | Organization name | Position title | Authorization No. | Effective date
Department of Agriculture | Office of Forest Service | Senior Advisor | DA180127 | 03/08/2018
| Office of Farm Service Agency | State Executive Director—Delaware | DA180140 | 03/23/2018
| Office of Rural Housing Service | Confidential Assistant | DA180150 | 03/28/2018
| Office of the Secretary | Director of Advance | DA180151 | 03/28/2018
|  | Staff Assistant | DA180143 | 03/29/2018
| Office of Communications | Advance Lead | DA180152 | 03/29/2018
Department of Commerce | Office of the Director | Chief of Congressional Affairs | DC180090 | 03/12/2018
| Office of the Chief of Staff | Confidential Assistant | DC180104 | 03/19/2018
| Office of Patent and Trademark | Chief Communications Officer | DC180114 | 03/20/2018
| Office of the Under Secretary | Senior Advisor | DC180100 | 03/29/2018
Department of Defense | Office of the Assistant Secretary of Defense (Legislative Affairs) | Director of Strategic Communications for Legislative Affairs | DD180067 | 03/16/2018
|  | Special Assistant (Legislative Affairs) | DD180074 | 03/22/2018
| Office of the Secretary | Director of Communications | DD180072 | 03/29/2018
| Office of the Under Secretary of Defense (Acquisition, Technology, and Logistics) Office of the Under Secretary of Defense (Policy) | Director of Operations for Research and Engineering Special Assistant for Homeland Defense and Defense Support of Civil Authorities | DD180065 DD180066 | 03/16/2018 03/19/2018
| Office of Washington Headquarters Services | Defense Fellow (2) | DD180060 DD180076 | 03/16/2018 03/28/2018
Department of the Air Force | Office of the Secretary | Special Assistant and Speechwriter | DF180016 | 03/29/2018
Department of the Navy | Office of the Under Secretary of the Navy | Special Assistant for Financial Management and Comptroller | DN180014 | 03/16/2018
Department of Energy | Office of Public Affairs | Associate Deputy Press Secretary | DE170191 | 03/01/2018
| Office of Economic Impact and Diversity | Special Advisor | DE180033 | 03/12/2018
| Assistant Secretary for Fossil Energy | Senior Advisor | DE180060 | 03/23/2018
Environmental Protection Agency | Office of the Associate Administrator for Congressional and Intergovernmental Relations | Special Advisor | EP180026 | 03/01/2018
Federal Trade Commission | Office of the Chairman | Director, Office of Policy Planning | FT180001 | 03/29/2018
|  | Director, Office of Public Affairs | FT180002 | 03/29/2018
General Services Administration | Office of the Administrator | Confidential Assistant | GS180023 | 03/13/2018
Department of Health and Human Services | Office of Administration for Children and Families | Policy Advisor | DH180059 | 03/06/2018
| Office of Center for Consumer Information and Insurance Oversight | Policy Advisor | DH180082 | 03/08/2018
| Office of Centers for Medicare and Medicaid Services | Senior Advisor for Medicare Special Assistant | DH180064 DH180088 | 03/06/2018 03/23/2018
| Office of Indian Health Service | Senior Advisor | DH180054 | 03/06/2018
| Office for Civil Rights | Senior Advisor for Conscience Protection | DH180065 | 03/06/2018
| Office of the Assistant Secretary for Health | Executive Director, President's Council on Fitness, Sports, and Nutrition | DH180057 | 03/06/2018
|  | Advisor | DH180086 | 03/08/2018
|  | Senior Policy Advisor | DH180103 | 03/29/2018
| Office of the Assistant Secretary for Legislation | Senior Advisor | DH180084 | 03/22/2018
| Office of the Assistant Secretary for Public Affairs | Director of Communications Assistant Speechwriter | DH180072 DH180078 | 03/19/2018 03/27/2018
| Office of the Secretary | Advisor | DH180095 | 03/29/2018
Department of Homeland Security | Office of the Under Secretary for National Protection and Programs Directorate | Director of Public Affairs | DM180097 | 03/06/2018
| Office of the Chief of Staff | Deputy White House Liaison | DM180109 | 03/13/2018
| Office of Countering Weapons of Mass Destruction | Director for Countering Weapons of Mass Destruction Policy and Plans | DM180119 | 03/16/2018
| Office of the Assistant Secretary for Public Affairs | Press Assistant | DM180124 | 03/16/2018
Department of Housing and Urban Development | Office of Congressional and Intergovernmental Relations | Advisor for Intergovernmental Relations | DU180042 | 03/13/2018
|  | Deputy Assistant Secretary for Congressional Relations | DU180051 | 03/19/2018
| Office of Public Affairs | Director of Speechwriting for Program and Policy | DU180043 | 03/27/2018
Department of the Interior | Secretary's Immediate Office | Speechwriter | DI180034 | 03/01/2018
| Secretary's Immediate Office | Deputy White House Liaison | DI180035 | 03/08/2018
| Office of Bureau of Ocean Energy Management | Advisor | DI180032 | 03/23/2018
Department of Justice | Office of Legislative Affairs | General Attorney (2) | DJ180058 | 03/08/2018
|  |  | DJ180059 | 03/08/2018
| Office of the Attorney General | Senior Policy Advisor | DJ180071 | 03/22/2018
| Office of Justice Programs | Senior Advisor | DJ180042 | 03/23/2018
| Office of Public Affairs | Program Event Press Specialist | DJ180061 | 03/28/2018
Department of Labor | Office of Public Affairs | Senior Advisor for Digital Strategy | DL180054 | 03/22/2018
|  | Press Assistant | DL180057 | 03/27/2018
| Office of Public Liaison | Special Assistant | DL180053 | 03/27/2018
Office of Management and Budget | Office of General Counsel | Confidential Assistant | BO180011 | 03/19/2018
Office of National Drug Control Policy | Office of Public Affairs | Public Affairs Specialist (Program Support) | QQ180004 | 03/22/2018
Office of Personnel Management | Office of the Director | Special Assistant | PM180017 | 03/22/2018
| Congressional, Legislative, and Intergovernmental Affairs | Legislative Director | PM180015 | 03/27/2018
Small Business Administration | Office of Congressional and Legislative Affairs | Special Advisor | SB180021 | 03/16/2018
Social Security Administration | Office of the Commissioner | Confidential Assistant | SZ180022 | 03/01/2018
Department of State | Office of the Chief of Protocol | Assistant Chief of Protocol for Ceremonials | DS180025 | 03/01/2018
|  | Chief of Staff | DS180034 | 03/01/2018
| Bureau of International Organizational Affairs | Senior Advisor | DS180035 | 03/06/2018
| Office of Policy Planning | Senior Advisor | DS180031 | 03/08/2018
| Bureau of Economic and Business Affairs | Special Assistant | DS180033 | 03/20/2018
| Office of Global Women's Issues | Special Assistant | DS180039 | 03/27/2018
Department of Transportation | Office of Chief Information Officer | Special Assistant | DT180037 | 03/15/2018
| Office of the Administrator | Director of Governmental Affairs | DT180009 | 03/23/2018
| Office of the Assistant Secretary for Budget and Programs | Special Assistant | DT180032 | 03/23/2018
| Office of the Secretary | Special Assistant | DT180034 | 03/23/2018
|  | Special Assistant for Advance (2) | DT180035 | 03/23/2018
|  |  | DT180036 | 03/23/2018
Department of Veterans Affairs | Office of the Secretary and Deputy | Senior Advisor for Investigations | DV180022 | 03/05/2018

The following Schedule C appointing authorities were revoked during March 2018.

Agency name | Organization name | Title | Request No. | Date vacated
Department of Agriculture | Office of the Assistant Secretary for Congressional Relations | Confidential Assistant | DA180019 | 03/03/2018
Department of Commerce | Office of Assistant Secretary for Global Markets | Special Advisor for Select United States of America | DC170147 | 03/17/2018
| Office of International Trade Administration | Confidential Assistant | DC170118 | 03/03/2018
| Office of Scheduling and Advance | Deputy Director of Advance | DC170079 | 03/02/2018
| Office of the Chief of Staff | Scheduler | DC170146 | 03/03/2018
|  | Scheduling Assistant | DC170139 | 03/03/2018
|  | Confidential Assistant | DC170062 | 03/31/2018
| Office of the General Counsel | Senior Counsel to the General Counsel | DC170095 | 03/31/2018
| Office of the Under Secretary | Senior Advisor for Advance | DC180004 | 03/17/2018
| Office of Patent and Trademark Office | Deputy Chief Communications Officer for Strategic Communications | DC170077 | 03/31/2018
|  | Senior Advisor | DC170088 | 03/31/2018
Office of the Secretary of Defense | Office of the Assistant Secretary of Defense (Legislative Affairs) | Special Assistant to the Assistant Secretary of Defense (Legislative Affairs) for Installations, Environment, and Energy | DD170153 | 03/03/2018
Department of Education | Office of Communications and Outreach | Communications Director | DB170122 | 03/03/2018
Department of Energy | Office of the Assistant Secretary for Electricity Delivery and Energy Reliability | Senior Advisor | DE170090 | 03/02/2018
| Office of Public Affairs | Press Assistant | DE170125 | 03/03/2018
Department of Health and Human Services | Office of the Assistant Secretary of Health | Liaison to the Veterans Administration | DH170137 | 03/16/2018
|  | Special Advisor | DH170277 | 03/17/2018
| Office of Indian Health Service | Senior Advisor to the Director, Indian Health Service | DH170299 | 03/17/2018
| Office of the General Counsel | Advisor and Legal Counsel | DH170334 | 03/17/2018
| Office of the Secretary | Policy Advisor for Health Policy | DH170262 | 03/17/2018
|  | Special Assistant | DH170244 | 03/17/2018
| Centers for Medicare and Medicaid Services | Director of Strategic Communications | DH180025 | 03/18/2018
| Office of the Assistant Secretary for Legislation | Advisor | DH180007 | 03/30/2018
Department of State | Office of the Chief of Protocol | Senior Protocol Officer | DS170177 | 03/03/2018
Department of the Treasury | Department of the Treasury | Speechwriter | DY170067 | 03/03/2018
Environmental Protection Agency | Office of the Administrator | Senior Advisor to the Administrator for Agriculture Policy | EP180001 | 03/04/2018
| Office of the Associate Administrator for Congressional and Intergovernmental Relations | Special Assistant to the Office of Congressional and Intergovernmental Relations | EP170078 | 03/17/2018
General Services Administration | Office of the Administrator | Senior Advisor for Administrative Services | GS170025 | 03/30/2018
National Aeronautics and Space Administration | Office of Communications | Social Media Specialist | NN180004 | 03/17/2018
Small Business Administration | Office of Congressional and Legislative Affairs | Legislative Assistant | SB170011 | 03/17/2018

Authority: 5 U.S.C. 3301 and 3302; E.O. 10577, 3 CFR, 1954-1958 Comp., p. 218.

U.S. Office of Personnel Management.
Jeff T.H. Pon,
Director.

[FR Doc. 2018-16927 Filed 8-7-18; 8:45 am]

BILLING CODE 6325-39-P